FEDERAL RETIREMENT THRIFT INVESTMENT BOARD

Privacy Act of 1974; System of Records

AGENCY: Federal Retirement Thrift Investment Board.

ACTION: Notice to alter a system of records.

SUMMARY: The Federal Retirement Thrift Investment Board (Agency) proposes to alter a system of records notice in its existing inventory of records subject to the Privacy Act of 1974, (5 U.S.C. 552a), as amended.

The proposed changes to FRTIB-1, Thrift Savings Plan Records, are necessary as the system location, system manager, and record access procedures have changed. These changes are also necessary in order to make clear the distinction between information available to beneficiaries and information available to someone handling a participant's estate. Finally, these changes are necessary to allow the Agency to share participant information with agency personnel and casualty assistance officers who are aiding beneficiaries, with consumer reporting agencies when necessary for the Agency to collect a debt owed to it under 5 U.S.C. 3711, and with quality control companies that are verifying documents submitted to lenders in connection with participants' commercial loan applications.

DATES: Effective Date: This proposed action will be effective without further notice on February 17, 2009 unless comments are received which result in a contrary determination.

ADDRESSES: Comments may be sent to Megan Graziano, Assistant General Counsel, Federal Retirement Thrift Investment Board, 1250 H Street, NW., Washington, DC 20005. The Agency's fax number is (202) 942-1676.

FOR FURTHER INFORMATION CONTACT: Megan Graziano on (202) 942-1660.

SUPPLEMENTARY INFORMATION: The Agency administers the TSP, which was established by the Federal Employees' Retirement System Act of 1986 (FERSA), Public Law 99-335, 100 Stat. 514. The TSP provisions of FERSA are codified, as amended, largely at 5 U.S.C. 8351 and 8401-79. The TSP is a tax-deferred retirement savings plan for Federal civilian employees and members of the uniformed services. The TSP is similar to cash or deferred arrangements established for private-sector employees under section 401(k) of the Internal Revenue Code (26 U.S.C. 401(k)).

The proposed system reports, as required by 5 U.S.C. 552a(r), of the Privacy Act of 1974, as amended, were submitted to the House Committee on Government Reform, the Senate Committee on Homeland Security and Government Affairs, and the Office of Management and Budget (OMB) pursuant to paragraph 4c of Appendix I to OMB Circular No. A-130, “Federal Agency Responsibilities for Maintaining Records About Individuals,” dated February 8, 1996 (February 20, 1996, 61 FR 6427).

Thomas K. Emswiler,
General Counsel, Federal Retirement Thrift Investment Board.

FRTIB-1

SYSTEM NAME:

* * * * *

SYSTEM LOCATION:

Delete the entry and replace with these two sentences: “These records are located at the office of the entity engaged by the Agency to perform record keeping services for the TSP. The current address for this record keeper is listed at http://www.tsp.gov.”

CATEGORIES OF INDIVIDUALS COVERED BY THE SYSTEM:

* * * * *

CATEGORIES OF RECORDS IN THE SYSTEM:

* * * * *

AUTHORITY FOR MAINTENANCE OF THE SYSTEM:

* * * * *

PURPOSES:

* * * * *

ROUTINE USES OF RECORDS MAINTAINED IN THE SYSTEM, INCLUDING CATEGORIES OF USERS AND THE PURPOSES OF SUCH USES:

Edit subpart (e) as follows:

“(e). When a participant to whom a record pertains dies, to disclose the following types of information to any potential beneficiary: Information in the participant's record which could have been properly disclosed to the participant when living (unless doing so would constitute a clearly unwarranted invasion of privacy) and the name and relationship of any other person who claims the benefits or who is entitled to share the benefits payable.” Add the following subpart after (e) and redesignate all subparts thereafter:

“(f). When a participant to whom a record pertains dies, to disclose the following types of information to anyone handling the participant's estate: Information in the participant's record which could have been properly disclosed to the participant when living (unless doing so would constitute a clearly unwarranted invasion of privacy), the name and the relationship of any person who claims the benefits or who is entitled to share the benefits payable, and information necessary for the estate's administration (for example, post-death tax reporting).”

Add the following subparts after subpart (r):

“(s). To disclose to personnel from agency personnel/payroll offices or to casualty assistance officers when necessary to assist a beneficiary or potential beneficiary.

(t). To disclose to a consumer reporting agency when the Board is trying to collect a debt owed to the Board under the provisions of 5 U.S.C. 3711.

(u). To disclose to quality control companies when such companies are verifying documents submitted to lenders in connection with participants' commercial loan applications.”

POLICIES AND PRACTICES FOR STORING, RETRIEVING, ACCESSING, RETAINING AND DISPOSING OF RECORDS IN THE SYSTEM:

* * * * *

STORAGE:

* * * * *

RETRIEVABILITY:

* * * * *

SAFEGUARDS:

* * * * *

RETENTION AND DISPOSAL:

* * * * *

SYSTEM MANAGER(S) AND ADDRESS:

Delete, the words “Executive Director” and replace with the words “Chief Financial Officer.”

RECORD ACCESS PROCEDURES:

Delete the third sentence in the final paragraph and replace entry with these two sentences: “To use the TSP ThriftLine, the participant must have a touch-tone telephone and call the following number 1-877-968-3778. Hearing-impaired participants should dial 1-877-847-4385.”

Delete the fifth and final sentence in the final paragraph.

CONTESTING RECORD PROCEDURES:

* * * * *

RECORD SOURCE CATEGORIES:

* * * * *

[FR Doc. E9-887 Filed 1-15-09; 8:45 am]

BILLING CODE 6760-01-P